ENVIRONMENTAL PROTECTION AGENCY

40 CFR Part 52

[AZ131-125; FRL-7860-8]

Revisions to the Arizona State Implementation Plan Maricopa County Environmental Services Department

AGENCY: Environmental Protection Agency (EPA).

ACTION: Direct final rule.

SUMMARY: EPA is taking direct final action to approve revisions to the Maricopa County Environmental Services Department (MCESD) portion of the Arizona State Implementation Plan (SIP). Under authority of the Clean Air Act as amended in 1990 (CAA or the Act), we are approving an emission statement rule and a negative declaration for a volatile organic compound (VOC) source category.

DATES: This rule is effective on April 11, 2005, without further notice, unless EPA receives adverse comments by March 14, 2005. If we receive such comments, we will publish a timely withdrawal in the Federal Register to notify the public that this direct final rule will not take effect.

ADDRESSES: Send comments to Andy Steckel, Rulemaking Office Chief (AIR-4), U.S. Environmental Protection Agency, Region IX, 75 Hawthorne Street, San Francisco, CA 94105-3901 or e-mail to steckel.andrew@epa.gov, or submit comments at http://www.regulations.gov.

You can inspect copies of the rule and the negative declaration, EPA's technical support documents (TSDs), and public comments at our Region IX office during normal business hours by appointment. You may also see copies of the submitted SIP revisions by appointment at the following locations:

Air and Radiation Docket and Information Center, U.S. Environmental Protection Agency, Room B-102, 1301 Constitution Avenue, NW., (Mail Code 6102T), Washington, DC 20460.

Arizona Department of Environmental Quality, Air Quality Division, 1110 West Washington Street, Phoenix, Arizona 85007.

Maricopa County Department of Environmental Services, Air Pollution Control Division, 1001 North Central Avenue, Suite 100, Phoenix, Arizona 85004.

Copies of the rule and the negative declaration may also be available via the Internet at the following site, http://www.maricopa.gov/envsvc/AIR/ruledesc.asp. Please be advised that this is not an EPA Web site and may not contain the same version of the rule that was submitted to EPA.

FOR FURTHER INFORMATION CONTACT: Julie A. Rose, EPA Region IX, (415) 947-4126, rose.julie@epa.gov.

SUPPLEMENTARY INFORMATION: Throughout this document, “we,” “us” and “our” refer to EPA.

Table of Contents

I. The State's Submittal

A. What rule and negative declaration did the State submit?

B. Are there other versions of this rule or negative declaration?

C. What is the purpose of the submitted rule and negative declaration?

II. EPA's Evaluation and Action.

A. How is EPA evaluating the rule and the negative declaration?

B. Do the rule and the negative declaration meet the evaluation criteria?

C. Public comment and final action.

III. Statutory and Executive Order Reviews

I. The State's Submittal

A. What Rule and Negative Declaration Did the State Submit?

Table 1 lists the rule and negative declaration we are approving with the dates that they were adopted by the MCESD and submitted by the Arizona Department of Environmental Quality (ADEQ).

Table 1.—Submitted Rule and Negative Declaration
Local agency | Rule # | Rule title | Adopted | Submitted
MCESD | 100, Sec. 504 | Emission Statements Required | 11-16-92 | 02-04-93
MCESD | Negative Declaration | Fiberglass Boat Manufacturing | 03-24-04 | 04-21-04

On March 10, 1993, and October 26, 2004, Rule 100, Section 504 and the negative declaration, submitted on February 4, 1993, and April 21, 2004, respectively, were found to meet the completeness criteria in 40 CFR part 51 Appendix V, which must be met before formal EPA review.

B. Are There Other Versions of This Rule or Negative Declaration?

There are no previous versions of the emission statement rule nor the Fiberglass Boat Manufacturing negative declaration.

C. What is the Purpose of the Submitted Rule and Negative Declaration?

Emission Statement Rule

Section 182(a)(3)(B)(i) of the CAA requires that States with areas designated as nonattainment for ozone require emission statement data from sources of volatile organic compounds (VOC) and oxides of nitrogen (NOX) in the nonattainment areas. This requirement applies to all ozone nonattainment areas regardless of the classification (Marginal, Moderate, etc.) Emission statements were required to be submitted by November 15, 1993, and annually thereafter. Section 182(a)(3)(B)(ii) of the CAA allows the States and local agencies to waive the requirement for emission statements for classes or categories of sources with less than 25 tons per year if the class or category is included in the base year and periodic inventories and emissions are calculated using emission factors established by EPA or other methods acceptable to EPA.

Negative Declaration

Section 182(b)(2) of the CAA requires States to submit reasonably available control technology (RACT) regulations for major stationary sources of VOC emissions in areas designated as nonattainment and classified as moderate or above. In order to fulfill this requirement, MCESD imposed source-specific RACT standards in the Title V permit for their Fiberglass Boat Manufacturing source. On December 3, 2001, the source notified MCESD of its intent to close their Phoenix facility and cease operations no later than December 31, 2001. In addition, the source requested the cancellation of existing operating air quality permits as of that date. On April 21, 2004, ADEQ submitted a SIP revision including a redesignation request and maintenance plan for the Maricopa County Nonattainment Area. As part of that revision, ADEQ also submitted a negative declaration for the Fiberglass Boat Manufacturing source category. The negative declaration was adopted to fulfill the requirements of section 182(b)(2) of the CAA.

II. EPA's Evaluation and Action

A. How is EPA Evaluating the Rule and the Negative Declaration?

Emission Statement

The emission statement rule requires owners or operators of sources which emit VOC and NOX to provide the Control Officer with a statement showing actual emissions of NOX and VOC annually. The statement must contain a certification by a responsible official of the company that the information contained in the statement is accurate. In combination with the other requirements, these rules must be enforceable (see section 110(a) of the Act) and must not relax existing requirements (see sections 110(l) and 193). EPA policy that we used to help evaluate enforceability requirements consistently includes the Bluebook (“Issues Relating to VOC Regulation Cutpoints, Deficiencies, and Deviations,” EPA, May 25, 1988) and the Little Bluebook (“Guidance Document for Correcting Common VOC & Other Rule Deficiencies,” EPA Region 9, August 21, 2001).

Negative Declaration

The MCESD has certified that it currently does not have any sources of Fiberglass Boat Manufacturing with the closure of Sea Ray Boats, Inc. The MCESD reviewed Department permit files, the 2002 Arizona Industrial Directory, and the Toxic Release Inventory System to determine if any other major sources of fiberglass boat manufacturing exist in Maricopa County. Based on this review, MCESD declares that there are no major sources of fiberglass boat manufacturing present in Maricopa County.

B. Do the Rule and the Negative Declaration Meet the Evaluation Criteria?

We believe the emission statement rule and the negative declaration are consistent with the relevant policy and guidance regarding enforceability and SIP revisions. The TSDs have more information on our evaluation.

C. Public Comment and Final Action

As authorized in section 110(k)(3) of the Act, EPA is fully approving the submitted rule as a revision to the SIP and is approving the negative declaration as additional information to the SIP. We believe the rule and the negative declaration fulfill all the relevant requirements. We do not think anyone will object to this approval, so we are finalizing it without proposing it in advance. However, in the Proposed Rules section of this Federal Register, we are simultaneously proposing approval of the same submitted rule and negative declaration. If we receive adverse comments by March 14, 2005, we will publish a timely withdrawal in the Federal Register to notify the public that the direct final approval will not take effect and we will address the comments in a subsequent final action based on the proposal. If we do not receive timely adverse comments, the direct final approval will be effective without further notice on April 11, 2005. This will incorporate the rule into the federally enforceable SIP and add the negative declaration as additional information.

III. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 11, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen Oxides, Ozone, Reporting and recordkeeping requirements.

Dated: December 22, 2004.
Sally Seymour,
Acting Regional Administrator, Region IX.

Part 52, chapter I, title 40 of the Code of Federal Regulations is amended as follows:

PART 52—[AMENDED]

1. The authority citation for part 52 continues to read as follows:

Authority: 42 U.S.C. 7401 et seq.

Subpart D—Arizona

2. Section 52.120 is amended by adding paragraph (c)(78)(i)(B) to read as follows:

§ 52.120 Identification of plan.

* * * * *

(c) * * *

(78) * * *

(i) * * *

(B) Rule 100, Section 504 adopted on November 16, 1992.

* * * * *

3. Section 52.122 is amended by adding paragraph (a)(1)(ii) to read as follows:

§ 52.122 Negative declarations.

(a) * * *

(1) * * *

(ii) Fiberglass Boat Manufacturing was adopted on March 24, 2004 and submitted on April 21, 2004.

* * * * *

[FR Doc. 05-2520 Filed 2-9-05; 8:45 am]

BILLING CODE 6560-50-P